DEPARTMENT OF THE INTERIOR

Bureau of Indian Affairs

Land Acquisitions; Osage Nation of Oklahoma

AGENCY: Bureau of Indian Affairs, Interior.

ACTION: Notice of final agency determination.

SUMMARY: The Assistant Secretary—Indian Affairs made a final agency determination to acquire approximately 27.66 acres of land, known as “OMDE Tulsa,” into trust for the Osage Nation of Oklahoma on July 8, 2011.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On July 8, 2011, the Assistant Secretary—Indian Affairs decided to accept approximately 27.66 acres of land into trust for the Osage Nation of Oklahoma under the authority of the Indian Reorganization Act of 1934, 25 U.S.C. 465. The 27.66 acres are located within the former reservation boundaries of the Osage Nation in Osage County, Oklahoma. The parcel is currently used for gaming. The 27.66 acre parcel located in Osage County, Oklahoma is described as follows:

Surface Only In and To:

All of lot 3 (NW/4 SW/4) in Section fourteen (14), Township twenty (20) North, Range twelve (12) East of the Indian Base and Meridian, Osage County, State of Oklahoma, According to the United States Government survey thereof, Less and Except the South two hundred twenty-eight and five tenths (228.5) feet thereof and any overlapping portion of the deed recorded in Book 616 at Page 295:

AND

TRACT OF LAND LOCATED IN Section fifteen (15), Township twenty (20) North, Range twelve (12) East of the Indian Base and Meridian, Osage County, State of Oklahoma, according to the United States Government survey thereof, described as follows: Commencing at the Northwest corner of the SE/4 NE/4; Thence East along the North line of the SE/4 NE/4 a distance of 413 feet; Thence South and parallel to the West line of the SE/4 NE/4 a distance of 1319.11 feet to a point on the South line of the SE/4 NE/4, said point also being the point of beginning of said tract of land; Thence continuing South and parallel to the West line of the NE/4 SE/4 a distance of 869.92 feet; Thence East and parallel to the South line of the NE/4 SE/4 a distance of 30 feet; Thence South and parallel to the West line of the NE/4 SE/4 a distance of 300 feet; Thence West and parallel to the South line of the NE/4 SE/4 a distance of 80 feet; Thence South and parallel to the West line of the NE/4 SE/4 a distance of 150 feet to a point on the South line of the NE/4 SE/4 363 feet East of the Southwest corner of the NE/4 SE/4; Thence in a Northeasterly direction on a straight line a distance of 631.7 feet more or less to a point 370 feet West and 228.5 feet North of the Southeast corner of the NE/4 SE/4; Thence East and parallel with the South line of the NE/4 SE/4 a distance of 370 feet to a point on the East line of the NE/4 SE/4, said point being a distance of 228.5 feet North of the Southeast corner of the NE/4 SE/4; Thence North along the East line of the NE/4 SE/4 a distance of 1092.27 feet to the Northeast corner of the NE/4 SE/4; Thence West along the North line of the NE/4 SE/4 a distance of 906.11 feet to the point of Beginning of said tract of land according to the survey of May 8, 2003, as revised as of October 29, 2010, by Sisemore, Weisz and Associates, Less and except any overlapping portions of deeds recorded in Book 91 at page 479, Book 616 at page 295, and Book 1311 at page 513.

To have and to hold said described premises unto the said party of the second part, heirs and assigns forever, free, clear and discharged of and from all former grants, charges, taxes, judgments, mortgages, and other liens and encumbrances of whatsoever nature. Grantor warrants title to the above described property.

Dated: July 8, 2011.
Larry Echo Hawk,
Assistant Secretary—Indian Affairs.

[FR Doc. 2011-18071 Filed 7-18-11; 8:45 am]

BILLING CODE 4310-4N-P